FEDERAL TRADE COMMISSION

Sunshine Act Meeting Notice

AGENCY: Federal Trade Commission.

ACTION: Notice.

SUMMARY: Notice is hereby given of the scheduling of an Oral Argument in Daniel Chapter One, et al., Docket No. 9329.

DATES: Thursday, December 3, 2009, 1 p.m.

FOR FURTHER INFORMATION CONTACT: Mitch Katz, Senior Public Affairs Specialist, Office of Public Affairs, 600 Pennsylvania Avenue, NW., Washington, DC 20580, (202) 326-2180, (202) 326-2711 (recorded message).

SUPPLEMENTARY INFORMATION: An Oral Argument will be held in the Matter of Daniel Chapter One, et al., Docket 9329 at the Federal Trade Commission Building, Room 532, 600 Pennsylvania Avenue, NW., Washington, DC 20580 at 1 p.m. Part of this meeting will be open to the public. The rest of the meeting will be closed to the public.

Matters To Be Considered

Portion Open to the Public (1) Oral Argument in Daniel Chapter One, et al., Docket 9329.

Portion Closed to the Public (2) Executive Session to follow Oral Argument in Daniel Chapter One., et al., Docket 9329.

By direction of the Commission.
Donald S. Clark,
Secretary.

[FR Doc. E9-28372 Filed 11-27-09; 8:45 am]

BILLING CODE 6750-01-M